DEPARTMENT OF HEALTH AND HUMAN SERVICES

National Institutes of Health

Office of the Director, National Institutes of Health; Notice of Meetings

Pursuant to section 10(a) of the Federal Advisory Committee Act, as amended, notice is hereby given of meetings of the Office of AIDS Research Advisory Council.

The meetings will be open to the public, with attendance limited to space available. Individuals who plan to attend and need special assistance, such as sign language interpretation or other reasonable accommodations, should notify the Contact Person listed below in advance of the meeting.

Name of Committee: Office of AIDS Research Advisory Council.

Date: March 28, 2019.

Time: 8:30 a.m. to 4:30 p.m.

Agenda: The fiftieth meeting of the Office of AIDS Research Advisory Council (OARAC) will include the OAR Director's Report; updates from the DHHS HIV/AIDS Treatment and Prevention Guidelines; updates from HIV/AIDS Advisory Councils for NCI, NIDA, NIMH and NIAD; the FY2021 NIH Plan for HIV-Related Research; other HIV/AIDS research activities across selected NIH Institutes; and public comment.

Place: National Institutes of Health, Conference Room 1D13, 5601 Fishers Lane, Rockville, MD 20892.

Contact Person: Jay R. Radke, Ph.D., Scientific Review Officer, Office of AIDS Research, National Institutes of Health, Ofc of the Director, 5601 Fishers Lane, Room 2E61, MSC-9834 Bethesda, MD 20892-9834, (240) 669-5046, jay.radke@nih.gov.

Name of Committee: Office of AIDS Research Advisory Council.

Date: June 27, 2019.

Time: 8:30 a.m. to 4:30 p.m.

Agenda: OAR Director's Report; updates from the DHHS HIV/AIDS Treatment and Prevention Guidelines; updates from HIV/AIDS Advisory Councils for NCI, NIDA, NIMH and NIAD; the FY2021 NIH Plan for HIV-Related Research; other HIV/AIDS research activities across selected NIH Institutes; and public comment.

Place: National Institutes of Health, 1D13, 5601 Fishers Lane, Rockville, MD 20852.

Contact Person: Jay R. Radke, Ph.D., Scientific Review Officer Office of AIDS Research, National Institutes of Health, Ofc of the Director, 5601 Fishers Lane, Room 2E61, MSC-9834 Bethesda, MD 20892-9834, (240) 669-5046, jay.radke@nih.gov.

Name of Committee: Office of AIDS Research Advisory Council.

Date: November 7, 2019.

Time: 8:30 a.m. to 4:30 p.m.

Agenda: OAR Director's Report; updates from the DHHS HIV/AIDS Treatment and Prevention Guidelines; updates from HIV/AIDS Advisory Councils for NCI, NIDA, NIMH and NIAD; the FY2021 NIH Plan for HIV-Related Research; other HIV/AIDS research activities across selected NIH Institutes; and public comment.

Place: National Institutes of Health, 1D13, 5601 Fishers Lane, Rockville, MD 20852.

Contact Person: Jay R. Radke, Ph.D., Scientific Review Officer, Office of AIDS Research, National Institutes of Health, Ofc of the Director, 5601 Fishers Lane, Room 2E61, MSC-9834 Bethesda, MD 20892-9834, (240) 669-5046, jay.radke@nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: February 11, 2019.
Natasha M. Copeland,
Program Analyst, Office of Federal Advisory Committee Policy.

[FR Doc. 2019-02432 Filed 2-14-19; 8:45 am]

BILLING CODE 4140-01-P